DEPARTMENT OF TRANSPORTATION

Surface Transportation Board

[STB Finance Docket No. 34118]

The Athens Line, LLC—Lease and Operation Exemption—Norfolk Southern Railway Company and Central of Georgia Railroad Company

The Athens Line, LLC (ABR), a noncarrier, has filed a verified notice of exemption under 49 CFR 1150.31 to acquire by lease and to operate adjoining lines of Central of Georgia Railroad Company (CGA) and CGA's parent Norfolk Southern Railway Company (NS) through an operating contract with The Great Walton Railroad Company, Inc. The lines extend between CGA milepost F-75.5 at Madison, GA, to CGA milepost F-106.3 at Athens, GA,¹ and NS milepost NE-39.1 at Athens to NS milepost NE-32.0 at a point designated as Junior State, GA, a distance of approximately 38 miles. The line includes the following stations in Georgia: Bishop, Watkinsville, Whitehall, Athens and Paradise Valley. NS and ABR intend to interchange at either Paradise Valley or Junior State. ABR will grant trackage rights back to NS between NS milepost NE-32.0 and milepost NE-37.4 solely for purposes of interchange. ABR certifies that its projected annual revenues will not exceed $5 million.

¹ ABR states that it understands that the transaction covered by this exemption will not create any residual common carrier obligation for CGA to resume operation of the Madison-Bishop segment of the Madison-Athens line should ABR sometime in the future obtain Board authority to discontinue its operations over that segment. See Central of Georgia Railroad Company—Discontinuance Exemption—Operations Between Madison and Bishop, GA, Docket No. AB-290 (Sub-No. 37X) (ICC served Nov. 3, 1988). (CGA received exemption discontinue operations between CGA milepost F-75.5 near Madison and milepost F-91.5 at Bishop). Abandonment of the segment would require further Board action or exemption.

The transaction was scheduled to be consummated on or after December 7, 2001, the effective date of the exemption, with ABR's assumption of operations scheduled for December 29, 2001.

If the notice contains false or misleading information, the exemption is void ab initio. Petitions to revoke the exemption under 49 U.S.C. 10502(d) may be filed at any time. The filing of a petition to revoke will not automatically stay the transaction.

An original and 10 copies of all pleadings, referring to STB Finance Docket No. 34118, must be filed with the Surface Transportation Board, Office of the Secretary, Case Control Unit, 1925 K Street, N.W., Washington, DC 20423-0001. In addition, one copy of each pleading must be served on David C. Reeves, Troutman Sanders LLP, 401 Ninth Street, N.W., Suite 1000, Washington, DC 20004-2134.

Board decisions and notices are available on our web site at “WWW.STB.DOT.GOV.”

Decided: December 18, 2001.
By the Board, David M. Konschnik, Director, Office of Proceedings.
Vernon A. Williams,
Secretary.

[FR Doc. 01-31766 Filed 12-26-01; 8:45 am]

BILLING CODE 4915-00-P